DEPARTMENT OF TRANSPORTATION

Federal Aviation Administration

14 CFR Part 39

[Docket No. 2001-NM-154-AD; Amendment 39-13220; AD 2003-14-01]

RIN 2120-AA64

Airworthiness Directives; Airbus Model A300 B2, A300 B4, A300 B4-600, A300 B4-600R, A300 F4-600R, A310, A330, and A340 Series Airplanes

AGENCY: Federal Aviation Administration, DOT.

ACTION: Final rule.

SUMMARY: This amendment adopts a new airworthiness directive (AD), applicable to certain Airbus airplanes, that requires repetitive inspections for foreign objects between the slider and the girt bar attachment fittings of the emergency escape slides; a one-time inspection for correct adjustment of the slide release mechanism and the girt bar attachment fittings, which would terminate the repetitive inspections; a one-time test for correct extension of the girt bar through the sliders; and corrective action, if necessary. The actions specified by this AD are intended to prevent failure of an emergency escape slide, which could result in a delayed evacuation in an emergency and consequent injury to passengers or crew. This action is intended to address the identified unsafe condition.

DATES: Effective August 14, 2003.

The incorporation by reference of certain publications listed in the regulations is approved by the Director of the Federal Register as of August 14, 2003.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus airplanes was published as a supplemental notice of proposed rulemaking (NPRM) in the Federal Register on January 3, 2003 (68 FR 315). That action proposed to require repetitive inspections for foreign objects between the slider and the girt bar attachment fittings of the emergency escape slides; a one-time inspection for correct adjustment of the slide release mechanism and the girt bar attachment fittings, which would terminate the repetitive inspections; a one-time test for correct extension of the girt bar through the sliders; and corrective action, if necessary.

Comments

Interested persons have been afforded an opportunity to participate in the making of this amendment. Due consideration has been given to the comments received.

Request To Revise Compliance Interval

Two commenters request that the proposed AD be revised to change the repetitive interval for inspecting the emergency exit doors for foreign objects. The commenters request that the inspection be required not at the proposed 7-day interval, but only when the door is removed or maintenance is done on the door or slide assembly. The commenters assert that the emergency exit doors are not regularly opened and do not collect debris at the same rate as passenger doors, and that the interior side wall panels of the emergency doors prevent debris from being introduced into the slide release mechanism. The commenters suggest that opening the emergency exit doors every 7 days could accelerate wear of the slider and girt bar attach mechanisms and could increase the amount of dirt, debris, and corrosion introduced into the door mechanism. The commenters further suggest that the visual inspection be included in the aircraft maintenance manual upon installation and other relevant maintenance procedures regarding the emergency exit doors.

The FAA does not agree with the request. The girt bar, sliders, and attachment fittings of the emergecy and passengers doors are identical in design and are located close to the floor. The girt bars of all doors are subject to the same risk of being affected by debris—regardless of how often the doors are opened—because of the open access to the cabin; debris can still reach and affect the girt bar of a closed door. In addition, according to the manufacturer, there is no risk of increased wear on the moving components due to frequent use. Further, the inspection for the emergency doors can be done quickly. No change to the final rule is necessary regarding this issue.

Request To Delay Issuance of AD Pending Revised Procedures

Two commenters request that the FAA delay issuing the AD until an appropriate measuring device can be developed to measure the gap between the sliders and the girt bar. The commenters state that the mechanism is poorly accessible and the measurement procedure requires special skills, tooling, and training to be accomplished consistently. They add that typical measuring tools are impractical due to the mechanism's close proximity to the fuselage door cutout, and the tool depicted in Figure 2, sheet 4, of the service bulletin referenced in the supplemental NPRM is difficult to manufacture with the appropriate dimensional indications.

However, another commenter notes that, because operators had difficulties following the procedures to perform the measurements, Airbus has revised the service information to add work instructions and clarify the procedures to inspect and test the release mechanism attach fittings.

The FAA does not agree with the request to delay issuance of the AD. The service bulletin procedures for checking the slide release mechanism can be complex. As a result, Airbus has improved the instructions in the revised service bulletins (which were described in the supplemental NPRM). Furthermore, the measuring tool shown in Figure 2, sheet 4, of the service bulletins is provided as a typical example of a tool to be used for measuring the extension of the sliders over the girt bar; that tool can be easily made from any sheet of aluminum and is not considered a specific tool. In addition, no specialized training is necessary to perform this measurement. No change to the final rule is necessary regarding this issue.

Conclusion

After careful review of the available data, including the comments noted above, the FAA has determined that air safety and the public interest require the adoption of the rule as proposed.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the supplemental NPRM regarding that material.

Cost Impact

The FAA estimates that there are 103 Model A300 B2, A300 B4, A300 B4-600, A300 B4-600R, A300 F4-600R, A310, and A330 series airplanes of U.S. registry that will be affected by this AD. There are no Model A340 series airplanes currently on the U.S. Register; however, if an affected Model A340 series airplane is imported and placed on the U.S. Register in the future, the cost impact would be the same as for the remaining affected airplanes, as described below.

It will take approximately 2 work hours per airplane to inspect for foreign objects between the slider and the girt bar attachment fittings, at an average labor rate of $60 per work hour. Based on these figures, the cost impact of this inspection on U.S. operators is estimated to be $12,360, or $120 per airplane, per inspection cycle.

It will take approximately 4 work hours per airplane to determine whether the slide mechanism and girt bar attachment fittings are adjusted correctly, at an average labor rate of $60 per work hour. Based on these figures, the cost impact of this inspection on U.S. operators is estimated to be $24,720, or $240 per airplane.

It will take approximately 4 work hours per airplane to determine whether the girt bar extends through the sliders correctly, at an average labor rate of $60 per work hour. Based on these figures, the cost impact of this inspection on U.S. operators is estimated to be $24,720, or $240 per airplane.

The cost impact figures discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-14-01 Airbus: Amendment 39-13220. Docket 2001-NM-154-AD.

Applicability: The following airplanes, certificated in any category:

Table 1.—Applicability
Model— | Listed in Airbus Service Bulletin—
A300 B2 and A300 B4 series airplanes | A300-52-0174, Revision 01, dated August 23, 2002.
A300 B4-600, A300 B4-600R, and A300 F4-600R series airplanes | A300-52-6062, Revision 01, dated August 23, 2002.
A310 series airplanes | A310-52-2066, Revision 01, dated August 23, 2002.
A330 series airplanes | A330-52-3064, Revision 01, dated June 12, 2002.
A340 series airplanes | A340-52-4076, Revision 01, dated June 12, 2002.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent failure of an emergency escape slide, which could result in a delayed evacuation in an emergency and consequent injury to passengers or crew, accomplish the following:

Repetitive Inspections for Foreign Objects

(a) At the applicable time specified in paragraph (a)(1) or (a)(2) of this AD: Perform a general visual inspection for foreign objects between the slider and the girt bar attachment fittings of the emergency escape slides according to the applicable service bulletin listed in Table 2 of this AD. Repeat the inspection at least every 7 days until the actions required by paragraph (b) of this AD are done. If any foreign object is found during any inspection required by paragraph (a) of this AD: Before further flight, remove the object and ensure that the girt bar attachment fittings are clean, according to the applicable service bulletin. Table 2 follows:

Table 2.—Service Bulletin References for Required Actions
For model— | Do the actions in accordance with Airbus Service Bulletin—
A300 B2 and A300 B4 series airplanes | A300-52-0174, Revision 01, dated August 23, 2002.
A300 B4-600, A300 B4-600R, and A300 F4-600R series airplanes | A300-52-6062, Revision 01, dated August 23, 2002.
A310 series airplanes | A310-52-2066, Revision 01, dated August 23, 2002.
A330 series airplanes | A330-52-3064, Revision 01, dated June 12, 2002.
A340 series airplanes | A340-52-4076, Revision 01, dated June 12, 2002.

(1) For Model A330 and A340 series airplanes: Inspect within 7 days after the effective date of this AD.

(2) For Model A300, A300-600, and A310 series airplanes: Inspect within 550 flight hours after the effective date of this AD.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removing or opening access panels or doors. Stands, ladders, or platforms may be required to gain proximity to the area being checked.”

One-Time Inspection of Slide Release Mechanism and Girt Bar Attachment Fittings

(b) Within 18 months after the effective date of this AD, perform a one-time general visual inspection for correct adjustment of the emergency escape slide release mechanism and the girt bar attachment fittings according to the service bulletin listed in Table 2 of this AD, as applicable. If the slide mechanism or girt bar attachment fittings are not adjusted correctly: Before further flight, adjust them according to the applicable service bulletin. Accomplishment of this inspection and any required corrective actions terminates the repetitive inspections required by paragraph (a) of this AD.

One-Time Inspection of Girt Bar Attachment Fittings

(c) Within 18 months after the effective date of this AD, perform a one-time general visual inspection for correct extension of the emergency escape slide girt bar through the sliders, according to the service bulletin listed in Table 2 of this AD, as applicable. If the girt bar does not extend correctly: Before further flight, rework the girt bar or replace the girt bar assembly with a new assembly, according to the applicable service bulletin.

Alternative Methods of Compliance

(d) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) The actions must be done in accordance with Airbus Service Bulletin A300-52-0174, Revision 01, dated August 23, 2002; Airbus Service Bulletin A300-52-6062, Revision 01, dated August 23, 2002; Airbus Service Bulletin A310-52-2066, Revision 01, dated August 23, 2002; Airbus Service Bulletin A330-52-3064, Revision 01, dated June 12, 2002; or Airbus Service Bulletin A340-52-4076, Revision 01, dated June 12, 2002; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Effective Date

(g) This amendment becomes effective on August 14, 2003.

Note 4: The subject of this AD is addressed in French airworthiness directives 2002-296(B) and 2002-297(B), both dated June 12, 2002; and 2002-525(B), dated October 16, 2002.

Issued in Renton, Washington, on June 30, 2003.
Vi L. Lipski,
Manager, Transport Airplane Directorate, Aircraft Certification Service.

[FR Doc. 03-17313 Filed 7-9-03; 8:45 am]

BILLING CODE 4910-13-P